DEPARTMENT OF LABOR

Employment and Training Administration

[TA-W-57,987]

Sun Chemical Performance Pigments Division, Cincinnati, OH; Notice of Revised Determination of Alternative Trade Adjustment Assistance on Reconsideration

By letter dated January 27, 2006, a petitioner requested administrative reconsideration regarding Alternative Trade Adjustment Assistance (ATAA). The certification for Trade Adjustment Assistance (TAA) was signed on January 6, 2006. The Notice of determination was published in the Federal Register on January 24, 2006 (71 FR 3887).

The initial investigation determined that subject worker group possess skills that are easily transferable.

A careful review reveals that there are few comparable jobs in the local commuting area which require those skills possessed by the subject worker group. At least five percent of the workforce at the subject from is at least fifty years of age. Competitive conditions within the industry are adverse.

Conclusion

After careful review of the additional facts obtained on reconsideration, I conclude that the requirements of section 246 of the Trade Act of 1974, as amended, have been met for workers at the subject firm.

In accordance with the provisions of the Act, I make the following certification:

All workers of at Sun Chemical, Performance Pigments Division, Cincinnati, Ohio, who became totally or partially separated from employment on or after September 12, 2004 through January 6, 2008, are eligible to apply for adjustment assistance under section 223 of the Trade Act of 1974, and are also eligible to apply for alternative trade adjustment assistance under section 246 of the Trade Act of 1974.

Signed in Washington, DC, this 8th day of February 2006.
Elliott S. Kushner,
Certifying Officer, Division of Trade Adjustment Assistance.

[FR Doc. E6-2476 Filed 2-21-06; 8:45 am]

BILLING CODE 4510-30-P